DEPARTMENT OF HOMELAND SECURITY

Office of the Under Secretary for Management; Submission for Extension of a Currently Approved Information Collection Request (Product and Service Information Site)

AGENCY: Office of the Under Secretary for Management, Department of Homeland Security.

ACTION: Notice; 60-day notice request for comments.

SUMMARY: The Department of Homeland Security (DHS) invites the general public and other federal agencies the opportunity to comment on approved information collection request (ICR) OMB 1600-0001, Product and Service Information Site. As required by the Paperwork Reduction Act of 1995, (Pub. L. 104-13, 44 U.S.C. chapter 35) as amended by the Clinger-Cohen Act (Pub. L. 104-106), DHS is soliciting comments for the approved information collection request.

DATES: Written comments should be received on or before June 7, 2004 to be assured consideration.

ADDRESSES: Office of the Chief Information Officer, Attn: Thomas Bold, 245 Murray Drive, Bldg. 410 (RDS), Washington, DC 20528 and Office of Information and Regulatory Affairs, Attn: OMB Desk Officer for Homeland Security, Office of Management and Budget, Room 10235, Washington, DC 20503.

FOR FURTHER INFORMATION CONTACT: Yvonne Pollard, (202) 692-4221 (this is not a toll free number).

SUPPLEMENTARY INFORMATION: Direct all written comments to both the Department of Homeland Security and the Office of Information and Regulatory Affairs at the above addresses. A copy of this ICR, with applicable supporting documentation, may be obtained by calling the Paperwork Reduction Act Contact listed above.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Under Secretary of Management, Office of the Chief Information Officer.

Title: Product and Service Information Site.

OMB Number: 1600-0001.

Frequency: On occasion.

Affected Public: Individuals or households; businesses or other for-profit; not-for-profit institutions; farms, State, local or tribal government.

Estimated Number of Respondents: 20,000.

Estimated Time Per Respondent: 30 minutes for startup; 30 minutes for maintaining.

Total Burden Hours: 20,000.

Total Burden Cost: (capital/startup): $25.00 per respondent; $500,000 annually.

Total Burden Cost: (operating/maintaining): $25.00 per respondent, $500,000 annually.

Description: The Product and Service Information site is a supplement of the Central Contractor Registration database that will provide a uniform voluntary way for companies to provide descriptions of their product-and-service ideas to DHS for enhancing homeland security.

Dated: April 1, 2004.
Steve Cooper,
Chief Information Officer.

[FR Doc. 04-7876 Filed 4-6-04; 8:45 am]

BILLING CODE 4410-10-P